DEPARTMENT OF JUSTICE

Antitrust Division

Notice Pursuant to the National Cooperative Research and Production Act of 1993—Pistoia Alliance, Inc.

Notice is hereby given that, on June 23, 2021, pursuant to Section 6(a) of the National Cooperative Research and Production Act of 1993, 15 U.S.C. Section 4301 et seq. (the “Act”), Pistoia Alliance, Inc. filed written notifications simultaneously with the Attorney General and the Federal Trade Commission disclosing changes in its membership. The notifications were filed for the purpose of extending the Act's provisions limiting the recovery of antitrust plaintiffs to actual damages under specified circumstances. Specifically, Scitara Corporation, Marlboro, MA; QunaSys, Bunkyō, JAPAN; Procter & Gamble, Mason, OH; PHEMI Systems Corp., Vancouver, CANADA; Orbis Labsystems Services, Leopardstown, IRELAND; Nutanix, Hoofddorp, NETHERLANDS B.V; Maze Therapeutics, San Francisco, CA; Nick Lynch (individual member), Macclesfield, UNITED KINGDOM; Giovanni Nisato (individual member), Riehen, SWITZERLAND; and Emerald Cloud Lab, Inc., San Francisco, CA have been added as parties to this venture. Also, Bowhead Health, Inc., Kanato, CANADA has withdrawn as a party to this venture.

No other changes have been made in either the membership or planned activity of the group research project. Membership in this group research project remains open, and Pistoia Alliance, Inc. intends to file additional written notifications disclosing all changes in membership.

On May 28, 2009, Pistoia Alliance, Inc. filed its original notification pursuant to Section 6(a) of the Act. The Department of Justice published a notice in the Federal Register pursuant to Section 6(b) of the Act on July 15, 2009 (74 FR 34364).

The last notification was filed with the Department on April 5, 2021. A notice was published in the Federal Register pursuant to Section 6(b) of the Act on May 6, 2021 (86 FR 24415).

Suzanne Morris,
Chief, Premerger and Division Statistics, Antitrust Division.

[FR Doc. 2021-17507 Filed 8-13-21; 8:45 am]

BILLING CODE P